DEPARTMENT OF STATE

[Public Notice 6672]

United States Global Change Research Program

ACTION: Call for U.S. Nominations to serve as Authors and/or Review Editors of the IPCC Special Report “Managing the Risks of Extreme Events and Disasters to Advance Climate Change Adaptation” June 17, 2009.

SUMMARY: The United States participates in the Intergovernmental Panel on Climate Change, an intergovernmental body that oversees the development of assessments of the state of knowledge on climate change. The role of the IPCC is to assess on a comprehensive, objective, open and transparent basis, the scientific, technical, and socioeconomic information relevant to understanding the scientific basis of risk of human-induced climate change, its potential impacts, and options for adaptation and mitigation.

IPCC assessments are commissioned by member governments and produced by scientists and technical experts. The reports undergo expert and government review and are accepted by IPCC member governments prior to their release. Information on the IPCC and its assessments and procedures can be found at http://www.ipcc.ch.

Every six to seven years, the IPCC produces a comprehensive three-volume assessment of the state of knowledge of climate change. Volumes in this comprehensive assessment cover climate change science; impacts, vulnerability and adaptation; and mitigation. The most recent of these was finalized in 2008; the next comprehensive assessment will be finalized in 2014.

In addition to this comprehensive assessment, the IPCC periodically produces “special reports” that address specific topics on climate change. At the IPCC's most recent plenary meeting on April 21-23, governments approved the production of a “Special Report on Managing the Risks of Extreme Events and Disasters to Advance Climate Change Adaptation.”

Under IPCC procedures, member governments have an opportunity to provide nominations for authors to be involved in the production of each chapter in the report. The United States provides this call for nominations for U.S. authors or reviewers for the subject report. The subject report will require the contributions of experts who can integrate the findings of the climate change science; vulnerability, impacts, and adaptation to extreme events; and disaster risk management communities. Nominees should have extensive expertise pertinent to the subject matter covered, and will generally be recognized in their field of expertise. For each chapter in a report, IPCC procedures call for convening lead authors, who oversee the production of a chapter; lead authors, who are responsible for sections of a chapter, and contributing authors. IPCC procedures also call for lead reviewers, also generally are recognized in their field.

The chapters are as follows:

• Climate change: New dimensions in disaster risk, exposure, vulnerability, and resilience

• Determinants of risks: Exposure and vulnerability

• Changes in climate extremes and their impacts on the natural physical environment

• Changes in impacts of climate extremes: Human systems and ecosystems

• Managing the risks from climate extremes at the local level

• Managing the risks from climate extremes at the national level

• Managing the risks: International level and integration across scales

• Toward a sustainable and resilient future

• Case studies.

Further information on this request—such as the IPCC request for nominations, the approved outlines of the report, a description of the roles and responsibilities associated with them, and a nomination form and other required materials that must be completed for each nominee—may be found at either the IPCC Secretariat (http://www.ipcc-wg2.gov/AR5/sr.html) or USGCRP (http://www.globalchange.gov/ipcc/extremes) Web sites.

DATES: A completed nomination form as well as a summary CV for each nominee should be returned to the U.S. Global Change Research Program Office (ipcc_nominations@usgcrp.gov) by close of business Friday, July 10, 2009. The summary CV—in English and preferably no more than 5 pages, highlighting topical expertise and relevant publications—must include a statement of primary expertise (e.g., climate science, disaster risk reduction, impacts of extreme events/disasters, adaptation, economics).

FOR FURTHER INFORMATION CONTACT: David Allen, U.S. Global Change Research Program, Suite 250, 1717 Pennsylvania Ave, NW., Washington, DC 20006. (Phone: 202-419-3486, Fax: 202-223-3065, E-mail: dallen@usgcrp.gov); or visit the USGCRP Web site at http://www.globalchange.gov.

Dated: June 12, 2009.
Drew Nelson,
Acting Office Director, Office of Global Change, Bureau of Oceans and International Environmental and Scientific Affairs, U.S. Department of State.

[FR Doc. E9-14230 Filed 6-16-09; 8:45 am]

BILLING CODE 4710-09-P